DEPARTMENT OF HEALTH AND HUMAN SERVICES

Food and Drug Administration

21 CFR Part 558

New Animal Drugs for Use in Animal Feeds

CFR Correction

In title 21 of the Code of Federal Regulations, part 558, revised as of April 1, 2008, on page 410, in § 558.58 (e)(1)(iii), the entry for Bambermycins 1 to 3, in the column under “Limitations” remove “057926” and in its place add “016592”; in the column under “Sponsors”, add “016592”.

[FR Doc. E9-6810 Filed 3-25-09; 8:45 am]

BILLING CODE 1505-01-D